DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: The National Health Service Corps (NHSC) Loan Repayment Program (OMB No. 0915-0127)—Extension

The NHSC Loan Repayment Program (LRP) was established to ensure an adequate supply of trained primary care health professionals to the neediest communities in the Health Professional Shortage Areas (HPSAs) of the United States. Under this program, the Department of Health and Human Services agrees to repay the educational loans of the primary care health professionals. In return, the health professionals agree to serve for a specified period of time in a federally-designated HPSA approved by the Secretary for LRP participants.

This request for extension of OMB approval will include the NHSC LRP Application and Loan Verification Form, Site Information Form and Request for Method of Advanced Loan Repayment Form.

The estimate of burden is as follows:

Respondent | Number of respondents | Responses per respondent | Hours per response | Total hour burden
Applicants | 800 | 1 | 1.5 | 1200
Lenders | 45 | 1 | 15 | 11
Total | 845 |  |  | 1211

Written comments and recommendations concerning the proposed information collection should be sent within 30 days of this notice to: John Morrall, Human Resources and Housing Branch, Office of Management and Budget, New Executive Office Building, Room 10235, Washington, DC 20503.

Dated: February 22, 2002.
Jane M. Harrison,
Director, Division of Policy Review and Coordination.

[FR Doc. 02-4892 Filed 2-28-02; 8:45 am]

BILLING CODE 4165-15-P